DEPARTMENT OF HOUSING AND URBAN DEVELOPMENT

[Docket No. FR-4730-N-03]

Federal Property Suitable as Facilities to Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Mark Johnston, room 7262, Department of Housing and Urban Development, 451 Seventh Street, SW., Washington, DC 20410; telephone (202) 708-4300; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provided an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Agriculture: Ms. Marsha Pruitt, Realty Officer, Department of Agriculture, Reporters Building, 300 7th St., SW., Rm 310B, Washington, DC 20250; (202) 720-4335; DOT: Mr. Rugene Spruill, Principal, Space Management, SVC-140, Transportation Administrative Service Center, Department of Transportation, 400 7th St., SW, Rm 2310, Washington, DC 20590; (202) 366-4246; GSA: Mr. Brian K. Polly, Assistant Commissioner, General Services Administration, Office of Property Disposal, 18th and F Streets, NW, Washington, DC 20405; (202) 501-0052; Interior: Ms. Linda Tribby, Acquisition & Property Management, Department of the Interior, 1849 C St., NW, MS5512, Washington, DC 20240; (202) 219-0728; (These are not toll-free numbers).

Dated: January 10, 2002.
John D. Garrity,
Director, Office of Special Needs Assistance Programs.

Suitable/Available Properties

Buildings (by State)

Kentucky

Residence

420 Willow Street

Moorhead Co: KY 40351

Landholding Agency: Agriculture

Property Number: 15200210004

Status: Excess

Comment: 1300 sq. ft., brick

Ranger's Residence

125 Cherry Road

Berea Co: KY

Landholding Agency: Agriculture

Property Number: 15200210005

Status: Excess

Comment: 1680 sq. ft., brick, needs repair

Montana

Ranger Residence Garage

401 Manix Street

Augusta Co: Lewis & Clark MT 59422-

Landholding Agency: Agriculture

Property Number: 15200210001

Status: Excess

Comment: 372 sq. ft., needs repair, most recent use—bunkhouse, off-site use only

Ranger Residence

401 Manix Street

Augusta Co: Lewis & Clark MT

Landholding Agency: Agriculture

Property Number: 15200210002

Status: Excess

Comment: 856 & 700 sq. ft., needs repair, most recent use—bunkhouse, off-site use only

Choteau Bunkhouse

4236 Hwy 89

Choteau Co: Teton MT 59422-

Landholding Agency: Agriculture

Property Number: 15200210003

Status: Excess

Comment: 1209 sq. ft., needs repair, presence of asbestos, most recent use—bunkhouse, off-site use only

Land (by State)

New Jersey

0.27 acres

lots 3103, 3106

209 Bay Road

Ocean City Co: Cape May NJ 08226-

Landholding Agency: GSA

Property Number: 54200210003

Status: Surplus

Comment: Undeveloped land, endangered species documented

GSA Number: 1-U-NJ-645

North Carolina

4.939 acres

Staton Road

Greenville Co: Pitt NC

Landholding Agency: GSA

Property Number: 54200210002

Status: Surplus

Comment: Undeveloped land

GSA Number: 4-D-NC-738

Washington

Richland Rail R/W

East of 1335 Lee Blvd.

Richland Co: Benton WA

Landholding Agency: GSA

Property Number: 54200210005

Status: Excess

Comment: 0.59 acre, long narrow curved strip, most recent use—gravel rail bed/parking

GSA Number: 9-B-WA-1197

Unsuitable Properties

Buildings (by State)

Maryland

Bldg. #81

U.S. Coast Guard YARD

Baltimore Co: Baltimore MD 21226-

Landholding Agency: DOT

Property Number: 87200210001

Status: Underutilized

Reason: Secured Area

Bldg. #85

U.S. Coast Guard YARD

Baltimore Co: Baltimore MD 21226-

Landholding Agency: DOT

Property Number: 87200210002

Status: Underutilized

Reason: Secured Area

Bldg. #86

U.S. Coast Guard YARD

Baltimore Co: Baltimore MD 21226-

Landholding Agency: DOT

Property Number: 87200210003

Status: Underutilized

Reason: Secured Area

Bldg. #86D

U.S. Coast Guard YARD

Baltimore Co: Baltimore MD 21226-

Landholding Agency: DOT

Property Number: 87200210004

Status: Underutilized

Reason: Secured Area

Bldg. #149

U.S. Coast Guard YARD

Baltimore Co: Baltimore MD 21226-

Landholding Agency: DOT

Property Number: 87200210005

Status: Underutilized

Reason: Secured Area

New Mexico

Bldg. 220, TA-16

Los Alamos National Lab

Los Alamos Co: NM 87545-

Landholding Agency: Interior

Property Number: 61200210002

Status: Excess

Reason: Secured Area

Bldg. 222, TA-16

Los Alamos National Lab

Los Alamos Co: NM 87545-

Landholding Agency: Interior

Property Number: 61200210003

Status: Excess

Reason: Secured Area

Bldg. 223, TA-16

Los Alamos National Lab

Los Alamos Co: NM 87545-

Landholding Agency: Interior

Property Number: 61200210004

Status: Excess

Reason: Secured Area

Bldg. 224, TA-16

Los Alamos National Lab

Los Alamos Co: NM 87545-

Landholding Agency: Interior

Property Number: 61200210005

Status: Excess

Reason: Secured Area

Bldg. 226, TA-16

Los Alamos National Lab

Los Alamos Co: NM 87545-

Landholding Agency: Interior

Property Number: 61200210006

Status: Excess

Reason: Secured Area

Bldg. 1, TA-22

Los Alamos National Lab

Los Alamos Co: NM 87545-

Landholding Agency: Interior

Property Number: 61200210007

Status: Excess

Reason: Secured Area; Extensive deterioration

Bldg. 25, TA-22

Los Alamos National Lab

Los Alamos Co: NM 87545-

Landholding Agency: Interior

Property Number: 61200210008

Status: Excess

Reason: Secured Area; Extensive deterioration

New York

Middle Marker

Wind Shear Site

31st Ave & 75th St

Jackson Heights Co: Queens NY 11434-

Landholding Agency: GSA

Property Number: 54200210004

Status: Surplus

Reason: Extensive deterioration

GSA Number: 1-U-NY-889

Washington

Dam Tenders Qtrs.

O'Sullivan Dam

Warden Co: Grant WA 98857-

Landholding Agency: Interior

Property Number: 61200210009

Status: Unutilized

Reason: Extensive deterioration

Cox Property

Road 7820

Mesa Co: Franklin WA 99343-

Landholding Agency: Interior

Property Number: 61200210010

Status: Unutilized

Reason: Extensive deterioration

Unsuitable Properties

Land (by State)

California

1.23 acre

Delta-Mendota Canal

Bell Road

Stanislaus Co: CA

Property Number: 61200210001

Status: Underutilized

Reason: Floodway

Kentucky

64.47 acres

between airport & prison

Pine Knot Co: McCreary KY 42635-

Landholding Agency: GSA

Property Number: 54200210001

Status: Excess

Reasons: Within 2000 ft. of flammable or explosive material; Within airport runway clear zone

GSA Number: 4-J-KY-0610

[FR Doc. 02-1030 Filed 1-17-02; 8:45 am]

BILLING CODE 4210-29-M